DEPARTMENT OF DEFENSE

Department of the Air Force

Privacy Act of 1974; System of Records

AGENCY: Department of the Air Force, DoD.

ACTION: Notice to delete systems of records.

SUMMARY: The Department of the Air Force is deleting a system of records notice from its existing inventory of record systems subject to the Privacy Act of 1974, (5 U.S.C. 552a), as amended.

DATES: This proposed actions will be effective without further notice on December 27, 2004, unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 696-6280.

SUPPLEMENTARY INFORMATION: The Department of the Air Force systems of records notices subject to the Privacy Act of 1974, (5 U.S.C. 552a), as amended, have been published in the Federal Register and are available from the address above.

The proposed deletion is not within the purview of subsection (r) of the Privacy Act of 1974, (5 U.S.C. 552a), as amended, which requires the submission of a new or altered system report.

Dated: November 19, 2004.
Jeannette Owings-Ballard,
OSD Federal Register Liaison Officer, Department of Defense.

F061 AFMC A

System name:

Aeromedical Research Data (June 11, 1997, 62 FR 31793).

Reason: Records are now being maintained under the system of records F044 AF SG E, entitled “Medical Record System” last published in the Federal Register December 9, 2003, 68 FR 68609.

[FR Doc. 04-26110 Filed 11-24-04; 8:45 am]

BILLING CODE 5001-06-P